DEPARTMENT OF ENERGY

Federal Energy Regulatory Commission

Combined Notice of Filings #2

Take notice that the Commission received the following exempt wholesale generator filings:

Docket Numbers: EG16-10-000.

Applicants: Sandstone Solar LLC.

Description: Notice of Self-Certification of Exempt Wholesale Generator (EWG) Status of Sandstone Solar LLC.

Filed Date: 10/14/15.

Accession Number: 20151014-5213.

Comments Due: 5 p.m. ET 11/4/15.

Take notice that the Commission received the following electric rate filings:

Docket Numbers: ER10-2507-005.

Applicants: Westar Energy, Inc.

Description: Supplement to June 29, 2015 Triennial Market Power Analysis of Westar Energy, Inc.

Filed Date: 10/14/15.

Accession Number: 20151014-5269.

Comments Due: 5 p.m. ET 11/4/15.

Docket Numbers: ER11-1858-005; ER11-1859-004.

Applicants: NorthWestern Corporation, Montana Generation, LLC.

Description: Notice of Non-Material Change in Status of NorthWestern Corporation and Montana Generation, LLC.

Filed Date: 10/14/15.

Accession Number: 20151014-5275.

Comments Due: 5 p.m. ET 11/4/15.

Docket Numbers: ER16-73-000.

Applicants: PJM Interconnection, L.L.C.

Description: Section 205(d) Rate Filing: Revising Schedule 12—Appdx & Appdx A on behalf of AEP—update company affiliate to be effective 10/15/2015.

Filed Date: 10/14/15.

Accession Number: 20151014-5180.

Comments Due: 5 p.m. ET 11/4/15.

Docket Numbers: ER16-74-000.

Applicants: PJM Interconnection, L.L.C.

Description: Section 205(d) Rate Filing: Revisions to the CTOA on behalf of AEP to update its affiliate companies to be effective 10/15/2015.

Filed Date: 10/14/15.

Accession Number: 20151014-5181.

Comments Due: 5 p.m. ET 11/4/15.

Docket Numbers: ER16-75-000.

Applicants: Southern California Edison Company.

Description: Tariff Cancellation: Notice of Cancellation of IFA, Service Agreement No. 12, to be effective 10/15/2015.

Filed Date: 10/14/15.

Accession Number: 20151014-5182.

Comments Due: 5 p.m. ET 11/4/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 14, 2015.
Nathaniel J. Davis, Sr.,
Deputy Secretary.

[FR Doc. 2015-26707 Filed 10-20-15; 8:45 am]

BILLING CODE 6717-01-P